ENVIRONMENTAL PROTECTION AGENCY

[EPA-HQ-OPP-2023-0100; FRL-10740-01-OCSPP]

Pesticide Program Dialogue Committee; Notice of Public Meeting

AGENCY: Environmental Protection Agency (EPA).

ACTION: Notice.

SUMMARY: Pursuant to the Federal Advisory Committee Act (FACA), the Environmental Protection Agency's (EPA's) Office of Pesticide Programs is announcing a virtual public meeting of the Pesticide Program Dialogue Committee (PPDC) on May 31 and June 1, 2023, with participation by webcast only. There will be no in-person gathering for this meeting.

DATES: Virtual meeting: May 31, 2023, and June 1, 2023. On or before May 23, 2023, you must register to attend the virtual meeting and request special accommodations, as well as request an opportunity to present oral comments at the virtual meeting.

ADDRESSES:

Virtual meeting: You must register to receive the webcast meeting link for this virtual meeting by following the instructions on the EPA website at https://www.epa.gov/pesticide-advisory-committees-and-regulatory-partners/pesticide-program-dialogue-committee-ppdc.

Special accommodations: For information on access or services for individuals with disabilities, and to request accommodation for a disability, please contact the person listed under FOR FURTHER INFORMATION CONTACT. To allow EPA time to process the request for special accommodations, requests should be submitted on or before May 23, 2023.

FOR FURTHER INFORMATION CONTACT: Michelle Arling, Office of Pesticide Programs (7501M), Environmental Protection Agency, 1200 Pennsylvania Ave. NW (7101M), Washington, DC 20460; telephone number: (202) 566-1260; email address: arling.michelle@epa.gov.

SUPPLEMENTARY INFORMATION:

I. General Information

A. Does this action apply to me?

You may be potentially affected by this action if you work in in agricultural settings or if you are concerned about implementation of the Federal Insecticide, Fungicide, and Rodenticide Act (FIFRA) (7 U.S.C. 136 et seq.); the Federal Food, Drug, and Cosmetic Act (FFDCA) (21 U.S.C. 301 et seq.); the Pesticide Registration Improvement Act (PRIA) (which amends FIFRA section 33); and the Endangered Species Act (ESA) (16 U.S.C. 1531 et seq.). Potentially affected entities may include but are not limited to: Agricultural workers and farmers; pesticide industry and trade associations; environmental, consumer, and farm worker groups; pesticide users and growers; animal rights groups; pest consultants; state, local, and tribal governments; academia; public health organizations; and the public. If you have questions regarding the applicability of this action to a particular entity, consult the person listed under FOR FURTHER INFORMATION CONTACT.

B. How can I get copies of this document and other related information?

The docket for this action, identified under docket identification (ID) number EPA-HQ-OPP-2023-0100, is available online at https://www.regulations.gov. Additional instructions on visiting the docket, along with more information about dockets generally, is available at https://www.epa.gov/dockets.

II. Background

The PPDC is a federal advisory committee chartered under the Federal Advisory Committee Act (FACA), Public Law 92-463. EPA established the PPDC in September 1995 to provide policy advice, information and recommendations to the EPA Administrator through the Director of the Office of Pesticide Programs, Office of Chemical Safety and Pollution Prevention. The PPDC provides a public forum to discuss a wide variety of pesticide regulatory developments and reform initiatives, evolving public policy and program implementation issues associated with evaluating and reducing risks from the use of pesticides.

III. How do I participate in the virtual public meeting?

A. Virtual Meeting

The virtual meeting will be conducted via webcast. Please visit https://www.epa.gov/pesticide-advisory-committees-and-regulatory-partners/pesticide-program-dialogue-committee-ppdc to find a link to register for the meeting. Instructions for joining the meeting will be sent via email to those that register for the meeting.

B. Oral Comments

Requests to make brief oral comments to the PPDC during the virtual meeting should be submitted to the individual listed under FOR FURTHER INFORMATION CONTACT on or before noon on the date set in the DATES section.

Authority: 5 U.S.C. appendix 2 et seq. and 7 U.S.C. 136 et seq.

Dated: April 17, 2023.
Edward Messina,
Director, Office of Pesticide Programs.

[FR Doc. 2023-08445 Filed 4-20-23; 8:45 am]

BILLING CODE 6560-50-P